DEPARTMENT OF JUSTICE

Notice of Lodging of Consent Decree Under the Comprehensive Environmental Response, Compensation and Liability Act (CERCLA)

Notice is hereby given that on March 31, 2010, a proposed Consent Decree (“Decree”) in United States v. Honeywell International Inc., Civil Action No. 1:10CV203, was lodged with the United States District Court for the Southern District of Ohio.

In this action the United States, on behalf of the U.S. Environmental Protection Agency (“U.S. EPA”), sought cost recovery and injunctive relief against Honeywell International Inc. relating to the third operable unit (“OU3”) of the Allied Chemical and Ironton Coke Superfund Site (“Site”) in Ironton, Ohio, under the Comprehensive Environmental Response, Compensation and Liability Act of 1980. Under the Decree, which resolves these claims, Defendant Honeywell will pay all interim and future response costs not inconsistent with the National Contingency Plan relating to OU3 and will perform the remedy for OU3 at the Site. The remedy for OU3, which is the final remedy for the Site, pertains to the former Tar Plant area of the Site, and calls for covering contaminated soil at OU3 with a cap that complies with Ohio solid waste regulations; controls to ensure the cap remains intact and thereby protects people from remaining contaminated soil and soil vapor; and a combination of dredging, off-site disposal and/or capping of contaminated sediment in the Ohio River adjacent to the Tar Plant's loading dock.

The Department of Justice will receive for a period of thirty (30) days from the date of this publication comments relating to the Decree. Comments should be addressed to the Assistant Attorney General, Environment and Natural Resources Division, P.O. Box 7611, U.S. Department of Justice, Washington, DC 20044-7611, and either e-mailed to pubcomment-ees.enrd@usdoj.gov or mailed to P.O. Box 7611, U.S. Department of Justice, Washington, DC 20044-7611, and should refer to United States v. Honeywell International Inc., D.J. Ref. 90-11-3-07044/1. The Decree may be examined at U.S. EPA, Region 5, 77 West Jackson Blvd., Chicago, IL 60604. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $72.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-8243 Filed 4-9-10; 8:45 am]

BILLING CODE 4410-15-P